DEPARTMENT OF TRANSPORTATION

Maritime Administration

[Docket Number MARAD-2018-0088]

Centers of Excellence for Domestic Maritime Workforce Training and Education Notice of Opportunity To Apply for Designation

AGENCY: Maritime Administration (MARAD), U.S. Department of Transportation (DOT).

ACTION: Notice.

SUMMARY: The Maritime Administrator, after consultation with the United States Coast Guard, may designate a domestic maritime training or education entity as a Center of Excellence for Domestic Maritime Workforce Training and Education (CoE). MARAD's CoE Program focuses on entities other than Federal and State maritime academies that support the needs of the domestic maritime community. CoEs are key to building the maritime workforce and providing the necessary infrastructure for the United States to mobilize the required workforce in times of national need. Designations recognize the critical role these entities play in recruiting and training our Nation's maritime workforce and restoring America's maritime dominance. A CoE designation is valid for a period of five years. This notice solicits applications from eligible entities for the 2026 cycle of CoE designation. The notice also updates CoE Program policy to align with Executive Order (E.O.) 14151, Ending Radical and Wasteful Government DEI Programs and Preferencing, and announces that MARAD has terminated action on the 2024 application cycle, which was no longer in compliance with current Administration policy.

DATES: Applications, including all supporting information and documents, must be submitted by 8:00 p.m. E.T. on April 13, 2026.

ADDRESSES: An entity seeking designation as a CoE may submit applications, including all supporting information and documents, by email to CoEDMWTE@dot.gov.

FOR FURTHER INFORMATION CONTACT: Gerard Wall, Centers of Excellence for Domestic Maritime Workforce Training and Education (CoE) Program Manager, via electronic mail at gerard.wall@dot.gov or call 202-366-7273.

Application Webinar: MARAD will host a webinar to provide guidance to prospective applicants on the content of this Federal Register notice. Information about the webinar will be announced on https://www.maritime.dot.gov/education/maritime-centers-excellence. Attendance at the webinar is entirely voluntary and not a requirement of the application process.

Prior Federal Action

Multiple Federal Register notices were published between May 2018 and March 2020 seeking and responding to public comment on the proposed CoE designation policy. On March 6, 2020, MARAD published its final CoE designation policy in the Federal Register (85 FR 13231). Subsequently, MARAD issued notices in the Federal Register and on the MARAD website at https://www.maritime.dot.gov, requesting applications from qualified entities seeking designation as a CoE. MARAD designated 27 Centers of Excellence on May 19, 2021. Those designations were valid for one year. MARAD subsequently designated 32 CoEs on February 22, 2024. In accordance with the FY 2023 NDAA, codified in 46 U.S.C. 51706, designation periods changed from a duration of one year to five years. On September 12, 2024, MARAD issued a notice in the Federal Register announcing opportunity to apply for CoE designation. MARAD has terminated action on the 2024 application cycle because the program policy was no longer in compliance with current Administration policy. Entities that applied during the 2024 cycle are encouraged to submit an updated application.

How To Be Designated a Center of Excellence for Domestic Maritime Workforce Training and Education

Introduction

The Maritime Administrator, after consultation with the United States Coast Guard, may designate certain eligible and qualified training entities as CoEs. MARAD has developed the CoE Program to provide interested parties with comprehensive guidance on how best to apply for CoE designation. However, conformity with this CoE applicant guidance, except where explicit in the statute, is voluntary. MARAD will review and consider all applications it receives and may contact applicants with questions to assist in reviewing their applications. A training entity is free to decide whether it wishes to participate in the program and apply for a CoE designation.

Applications should include information to demonstrate that the applicant entity meets certain criteria, designation requirements, and attributes consistent with 46 U.S.C. 51706. If you believe that your entity qualifies for CoE designee status under an alternate interpretation or by qualifications not otherwise clearly articulated in the statute, your application should include a justification for any such alternative, and it will be considered during review. Annual program reviews, conducted throughout the 5-year period of designation, are designed to assess whether CoE designees follow relevant Federal requirements and continue to demonstrate a record of success in providing maritime workforce training and education.

Key Terms

The following list of key terms are either directly taken from the statute or were developed by MARAD, informed by comments received from the public during the initial policy development and comment period. The list is intended to assist applicants by providing context and insight into the approval process.

1. “Afloat career” means a career as a merchant mariner compensated for service aboard a vessel in the U.S. maritime industry.

2. “Ashore career” means a shore-based compensated occupation in the U.S. maritime industry.

3. “Covered training entity” means an entity that

A. is in a State that borders on:

i. the Gulf of America;

ii. the Atlantic Ocean;

iii. the Long Island Sound;

iv. the Pacific Ocean;

v. the Great Lakes; or

vi. the Mississippi River System;

B. The prospective entity is:

i. a postsecondary educational institution (as such term is defined in section 3(39) of the Carl D. Perkins Career and Technical Education Act of 2006 (20 U.S.C. 2302)) with an established maritime training program as part of its curriculum;

ii. a postsecondary vocational institution (as such term is defined in section 102(c) of the Higher Education Act of 1965 (20 U.S.C. 1002(c))) with an established maritime training program as part of its curriculum;

iii. a public or private nonprofit entity that offers one or more other structured experiential learning training programs for U.S. workers in the U.S. maritime industry, including a program offered by a labor organization or conducted in partnership with a nonprofit organization or one or more employers in the U.S. maritime industry;

iv. an entity sponsoring an apprenticeship program registered with the Office of Apprenticeship of the Employment and Training Administration of the Department of Labor or a State Apprenticeship Agency recognized by the Office of Apprenticeship pursuant to the Act of August 16, 1937 (commonly known as the “National Apprenticeship Act;” 50 Stat. 664, chapter 663; 29 U.S.C. 50); or

v. a maritime training center designated prior to the date of enactment of the National Defense Authorization Act for Fiscal Year 2023 (FY 2023 NDAA);

C. has a demonstrated record of success in maritime workforce training and education; and

D. has—

i. not been subject to a disciplinary or adverse administrative action by Federal, State, or other regulatory bodies;

ii. no unresolved nonconformities from administrative audits by regulatory bodies; and

iii. not been subject to any adverse criminal action by a Federal, State, or local law enforcement authority.

5. “Mississippi River System” means the mostly riverine network of the United States, which includes the Mississippi River and all connecting waterways, natural tributaries, and distributaries. The system includes the Arkansas, Illinois, Missouri, Ohio, Red, Allegheny, Tennessee, Wabash, and Atchafalaya rivers. Important connecting waterways include the Illinois Waterway, the Tennessee-Tombigbee Waterway, and the Gulf Intracoastal Waterway.

4. “Postsecondary educational institution” means

A. an institution of higher education, as defined in 20 U.S.C. 1001, that provides not less than a two-year program of instruction that is acceptable for credit toward a bachelor's degree;

B. a tribally controlled college or university; or

C. a nonprofit educational institution offering certificate or other skilled training programs at the postsecondary level.

5. “Postsecondary vocational institution” means a postsecondary vocational institution as defined in 20 U.S.C. 1002(c).

6. “State” means a State of the United States, the District of Columbia, Guam, Puerto Rico, the Virgin Islands, American Samoa, the Northern Mariana Islands, and any other territory or possession of the United States.

7. “Training program” means a program that provides training services, as described in section 134(c)(3)(D) of the Workforce Innovation and Opportunity Act (Pub. L. 113-128; 29 U.S.C. 3174).

8. “United States maritime industry” (as such term is defined in 46 U.S.C. 51706(c)(6)) means the design, construction, repair, operation, manning, and supply of vessels in all segments of the maritime transportation system of the United States, including:

A. the domestic and foreign trade;

B. the coastal, offshore, and inland trade; or

C. non-commercial maritime activities, including:

i. recreational boating; and

ii. oceanographic and limnological research as described in 46 U.S.C. 2101(24).

9. “Demonstrated record of success” is interpreted by MARAD to mean a measurable and consistent history of achieving positive outcomes in key performance areas. For maritime training entities, this includes:

A. evidence of sustained or increasing student enrollment over time and a strong retention rate, indicating effective recruitment and student satisfaction;

B. a track record of students completing their programs on time, demonstrating the entity's ability to support student program completion;

C. high percentages of graduates securing employment in maritime-related fields, further education, or other relevant opportunities within a reasonable time after graduation, reflecting the entity's effectiveness in preparing students for career success; and

D. validation from relevant industry bodies, employers, or accrediting agencies that supports the quality and impact of the entity's programs.

Eligibility

Under the statute and MARAD policy, a covered training entity that provides training and education for the domestic maritime workforce may apply so long as it meets the following criteria:

1. The entity is in a State that borders on at least one of the following bodies of water:

A. Gulf of America;

B. Atlantic Ocean;

C. Long Island Sound;

D. Pacific Ocean;

E. Great Lakes; or

F. Mississippi River System;

2. The entity is:

A. a postsecondary educational institution;

B. a postsecondary vocational institution;

C. a public or private nonprofit entity that offers one or more other structured experiential learning training programs for U.S. workers in the U.S. maritime industry, including a program that is offered by a labor organization or conducted in partnership with a nonprofit organization or one or more employers in the U.S. maritime industry;

D. an entity sponsoring an apprenticeship program registered with the Office of Apprenticeship of the Employment and Training Administration of the United States Department of Labor or a State Apprenticeship Agency recognized by the Office of Apprenticeship pursuant to the Act of August 16, 1937 (commonly known as the “National Apprenticeship Act;” 50 Stat. 664, chapter 663; 29 U.S.C. 50);

E. a maritime training center designated prior to the date of enactment of the FY 23 NDAA; or

F. a group of covered training entities that:

i. consists only of members that meet the eligibility criteria at (1), (2), (3) and (4);

ii. names a member of such group as a lead entity. The lead entity will serve as the primary point of contact with MARAD and will be responsible for all duties, including administrative, legal, and financial, as related to the CoE designation. For example, the lead entity is responsible for submitting the CoE application, responding to any inquiries from MARAD, and coordinating and executing any cooperative agreements with MARAD; and

iii. has a legally binding agreement signed by all members. That agreement must include the name of the group, which will receive the CoE designation if one is granted, and list the lead entity and its responsibilities consistent with (ii) of this section;

3. The entity has a demonstrated record of success in maritime workforce training and education; and

4. The entity—

A. has not been subject to a disciplinary or adverse administrative action by Federal, State, or other regulatory bodies;

B. has no unresolved nonconformities from administrative audits by regulatory bodies; and

C. has not been subject to any adverse criminal action by a Federal, State, or local law enforcement authority.

Implementation and Administration

MARAD will evaluate the applicant's supporting documentation and either approve or disapprove the request for designation. During the evaluation of the application and the supporting documentation, MARAD may request clarifications or additional information from the applicant. Upon approval, the Maritime Administrator or his designee will issue a decision. MARAD will thereafter publish the CoE's name and contact information on its website at https://www.maritime.dot.gov.

To assist MARAD in its review of the application and to ensure that it is identified as complete, provide only concise and relevant information and supporting documentation that demonstrate qualification and compliance with the statutory designation criteria. MARAD encourages applicants to ensure that each responsive section and each page of any document or enclosure in their application clearly references the submission requirement and section(s) as identified in Information to Include in Application.

Example 1. “Mar Ex” is eligible for the CoE program as a postsecondary educational institution, 4(a). Please find enclosed our Articles of Incorporation, Certificate of Status, and State authorization validation document, (5)(a-c).

Example 2. “Mar Ex” is enclosing the following supporting documents to demonstrate that our entity is accredited: U.S. Department of Education Accrediting Agency XYZ accreditation (5)(e), and our Afloat Track program and courses are approved by the United States Coast Guard (5)(h).

Information To Include in Application

1. Letter applying for CoE designation from the Chief Executive of the applicant entity.

2. Applicant's contact information:

A. Legal name of applicant entity and address.

B. Chief Executive's name, position title, address, phone number(s) and email.

C. Point(s) of contact (POC) name(s), position title(s), phone number(s), email(s).

3. Indicate the body of water that borders the entity's State:

A. Gulf of America;

B. Atlantic Ocean;

C. Long Island Sound;

D. Pacific Ocean;

E. Great Lakes; or

F. Mississippi River System.

4. Indicate the category under which the applicant entity is claiming eligibility for the CoE program:

A. Postsecondary educational institution;

B. Postsecondary vocational institution;

C. Public or private nonprofit entity that offers one or more other structured experiential learning training programs for U.S. workers in the U.S. maritime industry, including a program that is offered by a labor organization or conducted in partnership with a nonprofit organization or one or more employers in the U.S. maritime industry;

D. An entity sponsoring an apprenticeship program registered with the Office of Apprenticeship of the Employment and Training Administration of the United States Department of Labor or a State Apprenticeship Agency;

E. A maritime training center designated prior to the date of enactment of the FY 2023 NDAA; or

F. A group of covered training entities.

5. Submit the following supporting information and documents:

A. Charter, Articles of Incorporation, Certificate of Incorporation, or equivalent.

B. Certificate of Status (also known as Certificate of Existence or Certificate of Good Standing), a document issued by a State official (usually the Secretary of State), if applicable.

C. State authorization validation documents, if applicable.

D. Public or non-profit status certification, if applicable.

E. Accreditation approval letter(s) from an accrediting agency(ies).

F. Approval letter from a State Apprenticeship Agency in accordance with 29 CFR part 29, if applicable.

G. Approval letter from the State's Department of Education or equivalent State agency, if applicable.

H. Approval letter from the United States Coast Guard, if applicable.

I. ISO 9001 or other quality management certification, if applicable.

J. Data and statistics to demonstrate record of success in maritime workforce training and education, as well as entity effectiveness. This should include, but not be limited to, recruitment data; past/current enrollment (trends); attrition rates; student program completion data; post-program job and placement statistics (to the extent available); and program effectiveness feedback from students, faculty, alumni, and other stakeholders.

K. A brief assessment of the entity's estimated ability to increase student or trainee throughput to meet demand in a time of national need such as war, armed conflict, or national emergency.

6. Indicate the total number of afloat career preparation tracks, the total number of ashore career preparation tracks, or both, that the entity offers in the U.S. maritime industry and submit the following supporting information:

A. A program summary;

B. A description of applicable courses offered (only relevant maritime-related program-specific pages from the catalogue);

C. If applicable, letters of authorization or endorsement of the course or program or courses from an applicable professional society or industry body (including, but not limited to Welding, Electrician, Electronics, Maritime Construction, Maritime Logistics, Maritime Systems, etc.) to issue industry accepted certifications that reflect a professionally recognized level of educational or technical skill achievement; and

D. Any other relevant supporting documentation.

7. Applicant entities offering afloat career tracks, ashore career tracks, or both should demonstrate that they have satisfied accreditation requirements, as set forth below:

A. Postsecondary educational institutions and postsecondary vocational institutions:

i. are accredited by a regional accreditation agency or a nationally recognized agency on the list of accrediting agencies approved by the U.S. Department of Education; and

ii. if applicable, the mariner training program and mariner training courses offered by the entity have United States Coast Guard approval.

B. A public or private nonprofit entity that offers one or more other structured experiential learning training programs for U.S. workers in the U.S. maritime industry, including a program offered by a labor organization or conducted in partnership with a nonprofit organization or one or more employers in the U.S. maritime industry:

i. has United States Coast Guard approval of the mariner training program and mariner training courses offered by the entity, if applicable; or

ii. holds current accreditation of the maritime training program offered by the entity from one or more of the following:

a. the State's Department of Education or equivalent State agency;

b. employers in the U.S. maritime industry; or

c. other appropriate external review body, which is specifically authorized to review and validate post-secondary education programs and is acceptable to MARAD.

C. An entity sponsoring a registered apprenticeship program holds current accreditation from a State Apprenticeship Agency in accordance with 29 CFR part 29.

D. A maritime training center designated prior to the date of enactment of the FY 2023 NDAA must hold current accreditation:

i. of the entity, from a regional accreditation agency or a nationally recognized agency on the list of accrediting agencies approved by the U.S. Department of Education; or

ii. of the maritime training program offered by the entity from either:

a. the State Apprenticeship Agency in accordance with 29 CFR part 29;

b. the State's Department of Education or equivalent State agency;

c. the United States Coast Guard; or

d. other appropriate external review body, which is specifically authorized to review and validate post-secondary education programs and is acceptable to MARAD.

E. Each member of a group must hold current accreditation according to each member's corresponding eligibility category and the accreditation requirements outlined above in 7a-d.

8. All applicant entities should submit a brief narrative statement highlighting efforts to accomplish the following:

A. Support the workforce needs of the local, State, or regional economy;

B. Build the science, technology, engineering, and math competencies of local and future workforce to meet emerging local, regional, and national economic interests;

C. Offer a broad-based curriculum and stackable credentials, where applicable;

D. Engage or collaborate with the maritime industry, including, but not limited to, employers, associations, and other industry organizations or partners;

E. Engage or collaborate with K-12 programs to promote interest in maritime careers;

F. Engage or collaborate with maritime academies and other entities or organizations for advanced proficiency and higher education;

G. Conduct other significant domestic maritime workforce development related activities; and

H. If applicable, engage or collaborate with employer-led maritime training practices and programs through Sector Partnerships as authorized in the 2014 Workforce Innovation and Opportunity Act Section 3(26).

9. All applicant entities may provide any relevant endorsements, awards, recognition, and significant accomplishments in support of their application.

Note: As part of designation, CoE designees are geolocated on MARAD's CoE Interactive Map located on the MARAD website. In addition to identifying geographic location, this map also provides a link to the landing page for each entity and a brief narrative statement, a designee overview, and information about each entity's maritime program. Applicants should note that the information they submit for application sections 8a-h serves dual purposes—application support and content for a one-page designee overview that highlights your entity's achievements and aspirations.

Paperwork Reduction Act

The information collection requirements in the final CoE designation policy have been approved under information collection number 2133-0549 by the Office of Management and Budget (OMB) under the Paperwork Reduction Act of 1995, 44 U.S.C. 3501 et seq. In accordance with 5 CFR 1320.5(b)(2)(i), and notwithstanding any other provision of law, persons are not required to provide information to the Government unless the information collection displays a current and valid OMB control number. This application process is operating under the following current and valid OMB control number: 2133-0549.

(Authority: The National Defense Authorization Act for Fiscal Year 2023, Pub. L. 117-263 (December 23, 2022), 46 U.S.C. 51706, the Paperwork Reduction Act of 1995, 44 U.S.C. Chapter 35, as amended, 49 CFR 1.93.)

By Order of the Maritime Administrator.
T. Mitchell Hudson, Jr.,
Secretary, Maritime Administration.

[FR Doc. 2026-02784 Filed 2-11-26; 8:45 am]

BILLING CODE 4910-81-P